ADMINISTRATIVE CONFERENCE OF THE UNITED STATES

Meeting of the Assembly of the Administrative Conference

AGENCY: Administrative Conference of the United States (the Conference).

ACTION: Notice of public meeting.

SUMMARY: Pursuant to the Federal Advisory Committee Act (Pub. L. 92-463), notice is hereby given of a meeting of the Assembly of the Administrative Conference of the United States to consider particular organizational matters related to the functions of the Conference, and to consider a proposed recommendation for improved agency procedures in considering regulations that may preempt state law. To facilitate public participation, the Conference is inviting public comment on the recommendation that will be considered at the meeting, to be submitted in writing no later than December 3, 2010.

DATES: Meeting dates are Thursday, December 9, 2010, 2 to 5:30 p.m.; and Friday, December 10, 2010, 9 a.m. to noon. Comments on the recommendation must be received by Friday, December 3, 2010.

ADDRESSES: Meeting will be held at the William G. McGowan Theater, National Archives and Records Administration building, 700 Pennsylvania Avenue, NW., Washington, DC 20408-0001. Submit comments to either of the following:

(1) E-mail: comments@acus.gov, with “Plenary Preemption Recommendation” in the subject line; or

(2) Mail: Plenary Preemption Recommendation Comments, Administrative Conference of the United States, Suite 706 South, 1120 20th Street, NW., Washington, DC 20036.

FOR FURTHER INFORMATION CONTACT: Scott Rafferty, Designated Federal Officer, Administrative Conference of the Unites States, Suite 706 South, 1120 20th Street, NW., Washington, DC 20036; Telephone 202-480-2082. [Note: this is not a toll free number.]

SUPPLEMENTARY INFORMATION: The Administrative Conference of the United States makes recommendations to administrative agencies, the President, Congress, and the Judicial Conference of the Unites States regarding the improvement of Federal administrative procedures. (5 U.S.C. 594). The objectives of these recommendations are to ensure that private rights may be fully protected and regulatory activities and other Federal responsibilities may be carried out expeditiously in the public interest to: promote more effective public participation and efficiency in the rulemaking process, reduce unnecessary litigation in the regulatory process, improve the use of science in the regulatory process, and improve the effectiveness of laws applicable to the regulatory process (5 U.S.C. 591).

The membership of the Conference meeting in plenary session constitutes the Assembly of the Conference (5 U.S.C. 595). The Assembly will meet in plenary session to consider a proposed recommendation on Federal agency preemption of state law.

The Assembly will also consider revised bylaws and set staggered terms for its public (non-government) members. New members will be sworn in at the outset of the plenary session. The agenda will include breakout sessions to discuss future topics for Conference study.

This meeting will be open to the public and may end prior to the designated end time if business is concluded earlier. Members of the public are invited to attend the meeting in person, subject to space limitations; and the Conference will also provide remote public access to the meeting. Anyone who wishes to attend the meeting in person is asked to RSVP to comments@acus.gov, no later than December 7, 2010, in order to facilitate entry. Members of the public who attend the meetings of the full Assembly, may be permitted to speak only at the discretion of the Chairman, with unanimous approval of the members. The Conference welcomes the attendance of the public and will make every effort to accommodate persons with physical disabilities or special needs. An interpreter will be provided for the hearing impaired. If you need additional special accommodations due to disability, please inform the Designated Federal Officer no later than 7 days in advance of the meeting using the contact information provided above.

Members of the public may submit written comments on the Preemption Recommendation to either of the addresses listed above no later than December 3, 2010. A copy of the recommendation and information on remote access will be available at http://www.acus.gov. All comments will be delivered to the Designated Federal Officer listed on this notice. The Designated Federal Officer will post all comments that relate to the Plenary Preemption Recommendation on the Conference's Web site after the close of the comment period.

Dated: November 18, 2010.
Paul R. Verkuil,
Chairman.

[FR Doc. 2010-29504 Filed 11-22-10; 8:45 am]

BILLING CODE 6110-01-P